DEPARTMENT OF JUSTICE

Office of Justice Programs

[OJP (NIJ) Docket No. 1624]

Draft Report and Recommendations Prepared by the Research Committee of the Scientific Working Group on Medicolegal Death Investigation

AGENCY: National Institute of Justice, DOJ.

ACTION: Notice and request for comments.

SUMMARY: In an effort to obtain comments from interested parties, the U.S. Department of Justice, Office of Justice Programs, National Institute of Justice, Scientific Working Group for Medicolegal Death Investigation will make available to the general public a document entitled, “Research in Forensic Pathology/Medicolegal Death Investigation”. The opportunity to provide comments on this document is open to coroner/medical examiner office representatives, law enforcement agencies, organizations, and all other stakeholders and interested parties. Those individuals wishing to obtain and provide comments on the draft document under consideration are directed to the following Web site: http://www.swgmdi.org.

DATES: Comments must be received on or before July 29, 2013.

FOR FURTHER INFORMATION CONTACT: Patricia Kashtan, by telephone at 202-353-1856 [Note: this is not a toll-free telephone number], or by email at Patricia.Kashtan@usdoj.gov.

Greg Ridgeway,
Acting Director, National Institute of Justice.

[FR Doc. 2013-14707 Filed 6-19-13; 8:45 am]

BILLING CODE 4410-18-P